DEPARTMENT OF HOMELAND SECURITY

U.S. Customs and Border Protection

U.S. Immigration and Customs Enforcement

Announcement of Program for the Private Sector To Participate in Trade-Related Training of U.S. Customs and Border Protection and U.S. Immigration and Customs Enforcement Personnel; Correction

AGENCY: U.S. Customs and Border Protection (CBP) and U.S. Immigration and Customs Enforcement (ICE), Department of Homeland Security.

ACTION: General notice; correction.

SUMMARY: CBP and ICE published a document in the Federal Register of February 16, 2018, concerning the process to solicit, evaluate, and select interested parties in the private sector to fulfill agency needs for instruction and related instructional materials for trade-related training, pursuant to section 104 of the Trade Facilitation and Trade Enforcement Act of 2015. The document contained incorrect contact information.

DATES: This correction is effective April 12, 2018.

FOR FURTHER INFORMATION CONTACT: Keith Josephson, Trade Transformation Office, U.S. Customs & Border Protection, at 571-468-5108.

Correction

In the Federal Register of February 16, 2018, in FR Doc. 2018-03233, on page 7064, in the first column, correct the For Further Information Contact caption to read:

FOR FURTHER INFORMATION CONTACT: Questions should be addressed to agency-designated personnel below:

CBP: Keith Josephson (571-468-5108).

ICE: Special Agent Nadine Andrews (703-603-3955).

All other information contained in the notice remains unchanged.

Dated: April 9, 2018.
Alice A. Kipel,
Executive Director, Regulations and Rulings, Office of Trade, U.S. Customs and Border Protection.

[FR Doc. 2018-07581 Filed 4-11-18; 8:45 am]

BILLING CODE 9111-14-P